DEPARTMENT OF JUSTICE

National Institute of Justice

[OJP (NIJ) Docket No. 1818]

Body Armor Manufacturer In-Person Workshop

AGENCY: National Institute of Justice, Office of Justice Programs, U.S. Department of Justice.

ACTION: Notice.

SUMMARY: The National Institute of Justice (NIJ) will hold an in-person workshop for body armor manufacturers to provide an overview of NIJ Standard 0101.07, Ballistic Resistance of Body Armor, and NIJ Standard 0123.00, Specification for NIJ Ballistic Protection Levels and Associated Test Threats. The NIJ Compliance Testing Program (CTP) will outline how it will begin to phase out use of NIJ Standard 0101.06 and phase in the use of NIJ Standard 0101.07 in the administration of the program over the next year. The impact of the transition to NIJ Standard 0101.07 on the Compliant Products List (CPL) and Follow-up Inspection Testing (FIT) of currently listed body armor models compliant with NIJ Standard 0101.06 will also be discussed.

DATES: The in-person workshop will be held on Thursday, February 15, 2024, from 9 a.m. to 3 p.m. eastern time.

ADDRESSES: The in-person workshop will be held at RTI International's William M. Moore, Jr. Collaboration Center, located in the Holden Building on RTI's main campus at 3040 E Cornwallis Road, Research Triangle Park, NC 27709.

FOR FURTHER INFORMATION CONTACT: Mark Greene, Office Director, Office of Technology and Standards, National Institute of Justice, 810 7th Street NW, Washington, DC 20531 by telephone at (202) 598-9481 [Note: this is not a toll-free telephone number], or by email at mark.greene2@usdoj.gov.

SUPPLEMENTARY INFORMATION: The in-person workshop will be an open forum and there will opportunities for attendees to ask questions. Space is limited at this workshop, and as a result, NIJ requests that each manufacturer limit their representatives to no more than two per organization. Exceptions to this limit may occur, should space allow. Participants planning to attend are responsible for their own travel arrangements. To register for the in-person workshop, please send an email to askctp@nijctp.org by 5 p.m. eastern time on Friday, February 2, 2024, and provide the name of your company and the names of the representatives who will attend. Please put “Body Armor Manufacturer In-person Workshop” in the subject line of the email. A preliminary agenda will be sent to registered attendees approximately one week prior to the workshop.

Attendees should note that the workshop will be held at RTI International's main campus in Research Triangle Park, NC, where the NIJ CTP is administered. A map of the campus can be found on the RTI website at https://www.rti.org/sites/default/files/rtp_campus_map_9_2022.pdf. Please note that visitor access to the RTI campus is controlled. Please see https://www.rti.org/sites/default/files/visitor_management_system_visitor_process_guide_map.pdf for more information on the RTI visitor management process.

More information about standards and conformity assessment at NIJ can be found here: https://nij.ojp.gov/equipment-standards-and-conformity-assessment. More information on the NIJ CTP can be found here: https://cjtec.org/compliance-testing-program/.

NIJ publishes this notice pursuant to its authority at 34 U.S.C. 10122(c) and 6 U.S.C. 161-165.

Nancy La Vigne,
Director, National Institute of Justice.

[FR Doc. 2023-26325 Filed 11-29-23; 8:45 am]

BILLING CODE 4410-18-P